SECURITIES AND EXCHANGE COMMISSION

[File No. 500-1]

Home System Group, Order of Suspension of Trading

September 19, 2013.

It appears to the Securities and Exchange Commission that there is a lack of current and accurate information concerning the securities of Home System Group because Home System Group has not filed any periodic reports for any reporting period subsequent to December 31, 2011.

The Commission is of the opinion that the public interest and the protection of investors require a suspension of trading in the securities of the above-listed company.

Therefore, it is ordered, pursuant to Section 12(k) of the Securities Exchange Act of 1934, that trading in the securities of the above-listed company is suspended for the period from 9:30 a.m. EDT, September 19, 2013, through 11:59 p.m. EDT, on October 2, 2013.

By the Commission.
Jill M. Peterson,
Assistant Secretary.

[FR Doc. 2013-23144 Filed 9-19-13; 4:15 pm]

BILLING CODE 8011-01-P